DEPARTMENT OF ENERGY

Additional Public Hearing on the Draft PEIS; Designation of Energy Corridors on Federal Land in the 11 Western States

AGENCY: Office of Electricity Delivery and Energy Reliability, DOE.

ACTION: Notice of additional public hearing.

SUMMARY: On November 16, 2007, DOE and the Department of the Interior's Bureau of Land Management (BLM; the “agencies”) published a notice in the Federal Register (72 FR 64591) announcing the availability of the Draft Programmatic Environmental Impact Statement (Draft PEIS) titled, Designation of Energy Corridors on Federal Land in the 11 Western States (DOE/EIS-0386). That notice also announced that the agencies had scheduled 15 public hearings to receive comments on the Draft PEIS. The agencies now announce that they will hold an additional public hearing in Elko, Nevada.

DATES: February 5, 2008, from 6 to 8 p.m.

ADDRESSES: BLM Field Office, 3900 East Idaho Street, Elko, Nevada.

FOR FURTHER INFORMATION CONTACT: Ms. LaVerne Kyriss, Office of Electricity Delivery and Energy Reliability (OE-20), U.S. Department of Energy, 1000 Independence Avenue, SW., Washington, DC 20585, phone: 202-586-1056, facsimile: 202-586-8008, or electronic mail: laverne.kyriss@hq.doe.gov.

Issued at Washington, DC, on January 10, 2007.
Kevin M. Kolevar,
Assistant Secretary, Office of Electricity Delivery and Energy Reliability.

[FR Doc. E8-643 Filed 1-15-08; 8:45 am]

BILLING CODE 6450-01-P